NATIONAL SCIENCE FOUNDATION

45 CFR Part 670

Conservation of Antarctic Animals and Plants

AGENCY: National Science Foundation.

ACTION: Final rule.

SUMMARY: Pursuant to the Antarctic Conservation Act of 1978, The National Science Foundation (NSF) is amending its regulations to reflect newly designated Antarctic Specially Protected Areas (ASPA), Antarctic Specially Managed Areas (ASMA) and Historical Sites or Monuments (HSM). These additions reflect measures already adopted by the Antarctic Treaty Parties at recent Antarctic Treaty Consultative Meetings (ATCM). Finally, the regulation is being revised to correct some typographical and numbering errors.

DATES: Effective February 3, 2012.

FOR FURTHER INFORMATION CONTACT: Bijan Gilanshah, Office of the General Counsel, (703) 292-8060.

SUPPLEMENTARY INFORMATION: The Antarctic Conservation Act of 1978, as amended (“ACA”) (16 U.S.C. 2401, et seq.) implements the Protocol on Environmental Protection to the Antarctic Treaty (“the Protocol”).

Annex V contains provisions for the protection of specially designated areas specially managed areas and historic sites and monuments. Section 2405 of title 16 of the ACA directs the Director of the National Science Foundation to issue such regulations as are necessary and appropriate to implement Annex V to the Protocol.

The Antarctic Treaty Parties, which includes the United States, periodically adopt measures to establish additional specially protected areas, specially managed areas and historical sites or monuments in Antarctica. This rule is being revised to reflect three newly added Antarctic specially protected areas (ASPAs 168-171), one specially managed area (ASMA 7) and five historical sites and monuments in Antarctica (HSM 83-87).

Public Participation

The addition of these areas and sites merely reflects decisions already made by the Antarctic Treaty Parties at various international ATCM meetings. Because these amendments involve a foreign affairs function, the provisions of Executive Order 12866 and the Administrative Procedure Act (5 U.S.C. 553), requiring notice of proposed rulemaking, opportunity for public participation, and delay in effective date, are inapplicable. Further, because no notice of proposed rulemaking is required for this rule, the Regulatory Flexibility Act (5 U.S.C. 601-612) does not apply. Although this rule is exempt from the Regulatory Flexibility Act, it has nonetheless been determined that this rule will not have a significant impact on a substantial number of small businesses. Finally, as the agency has determined that this action pertains to the foreign affairs function of the United States it accordingly is not a “rule” as that term is used by the Congressional Review Act (5 U.S.C. 801-808). Therefore, the reporting requirement of 5 U.S.C. 801 does not apply.

Environmental Impact

This final rule makes conforming changes to the National Science Foundation's regulations to reflect the substantive outcomes of recent Antarctic Treaty Consultative Meetings. The actions taken by the Antarctic Treaty Parties to specially protect and manage these new Antarctic areas and historic resources will result in added protection of the Antarctic environment and its historic resources.

No Takings Implications

The Foundation has determined that the final rule will not involve the taking of private property pursuant to E.O. 12630.

Civil Justice Reform

The Foundation has considered this final rule under E.O. 12988 on civil justice reform and determined the principles underlying and requirements of E.O. 12988 are not implicated.

Federalism and Consultation and Coordination With Indian Tribal Governments

The Foundation has considered this final rule under the requirements of E.O. 13132 on federalism and has determined that the final rule conforms with the federalism principles set out in this E.O.; will not impose any compliance costs on the States; and will not have substantial direct effects on the States, the relationship between the Federal government and the States, or the distribution of power and responsibilities among the various levels of government. Therefore, the Foundation has determined that no further assessment of federalism implications is necessary.

Moreover, the Foundation has determined that promulgation of this final rule does not require advance consultation with Indian Tribal officials as set forth in E.O. 13175, Consultation and Coordination with Indian Tribal Governments.

Energy Effects

The Foundation has reviewed this final rule under E.O. 13211, Actions Concerning Regulations That Significantly Affect Energy Supply, Distribution, or Use. The Foundation has determined that this final rule does not constitute a significant energy action as defined in the E.O.

Unfunded Mandates

Pursuant to Title II of the Unfunded Mandates Reform Act of 1995 (2 U.S.C. 1531-1538), the Foundation has assessed the effects of this final rule on State, local, and Tribal governments and the private sector. This final rule will not compel the expenditure of $100 million or more by any State, local, or Tribal government or anyone in the private sector. Therefore, a statement under section 202 of the act is not required.

Controlling Paperwork Burdens on the Public

This final rule does not contain any recordkeeping or reporting requirements or other information collection requirements as defined in 5 CFR part 1320 that are not already required by law or not already approved for use. Accordingly, the review provisions of the Paperwork Reduction Act of 1995 (44 U.S.C. 3501 et seq.) and its implementing regulations at 5 CFR part 1320 do not apply.

List of Subjects in 45 CFR Part 670

Administrative practice and procedure, Antarctica, Exports, Imports, Plants, Reporting and recordkeeping requirements, Wildlife.

Dated: January 18, 2012.
Lawrence Rudolph,
General Counsel.

Pursuant to the authority granted by 16 U.S.C. 2405(a)(1), NSF hereby amends 45 CFR part 670 as set forth below:

PART 670—[AMENDED]

1. The authority citation for part 670 continues to read as follows:

Authority: 16 U.S.C. 2405, as amended.

2. Section 670.29 is revised to read as follows:

§ 670.29 Designation of Antarctic Specially Protected Areas, Specially Managed Areas and Historic Sites and Monuments.

(a) The following areas have been designated by the Antarctic Treaty Parties for special protection and are hereby designated as Antarctic Specially Protected Areas (ASPA). The Antarctic Conservation Act of 1978, as amended, prohibits, unless authorized by a permit, any person from entering or engaging in activities within an ASPA. Detailed maps and descriptions of the sites and complete management plans can be obtained from the National Science Foundation, Office of Polar Programs, National Science Foundation, Room 755, 4201 Wilson Boulevard, Arlington, Virginia 22230.

ASPA 101 Taylor Rookery, Mac. Robertson Land

ASPA 102 Rookery Islands, Holme Bay, Mac. Robertson Land

ASPA 103 Ardery Island and Odbert Island, Budd Coast, Wilkes Land

ASPA 104 Sabrina Island, Northern Ross Sea, Antarctica

ASPA 105 Beaufort Island, McMurdo Sound, Ross Sea

ASPA 106 Cape Hallett, Northern Victoria Land, Ross Sea

ASPA 107 Emperor Island, Dion Islands, Marguerite Bay, Antarctic Peninsula

ASPA 108 Green Island, Berthelot Islands, Antarctic Peninsula

ASPA 109 Moe Island, South Orkney Islands

ASPA 110 Lynch Island, South Orkney Islands

ASPA 111 Southern Powell Island and adjacent islands, South Orkney Islands

ASPA 112 Coppermine Peninsula, Robert Island, South Shetland Islands

ASPA 113 Litchfield Island, Arthur Harbour, Anvers Island, Palmer Archipelago

ASPA 114 Northern Coronation Island, South Orkney Islands

ASPA 115 Lagotellerie Island, Marguerite Bay, Graham Land

ASPA 116 New College Valley, Caughley Beach, Cape Bird, Ross Island

ASPA 117 Avian Island, Marguerite Bay, Antarctic Peninsula

ASPA 118 Summit of Mount Melbourne, Victoria Land

ASPA 119 Davis Valley and Forlidas Pond, Dufek Massif, Pensacola Mountains

ASPA 120 Pointe-Geologie Archipelego, Terre Adelie

ASPA 121 Cape Royds, Ross Island

ASPA 122 Arrival Heights, Hut Point Peninsula, Ross Island

ASPA 123 Barwick and Balham Valleys, Southern Victoria Land

ASPA 124 Cape Crozier, Ross Island

ASPA 125 Fildes Peninsula, King George Island (25 de Mayo)

ASPA 126 Byers Peninsula, Livingston Island, South Shetland Islands

ASPA 127 Haswell Island

ASPA 128 Western shore of Admiralty Bay, King George Island, South Shetland Islands

ASPA 129 Rothera Point, Adelaide Island

ASPA 130 Tramway Ridge, Mount Erebus, Ross Island

ASPA 131 Canada Glacier, Lake Fryxell, Taylor Valley, Victoria Land ASPA 132 Potter Peninsula, King George Island (Isla 25 de Mayo) (South Shetland Islands)

ASPA 133 Harmony Point, Nelson Island, South Shetland Islands

ASPA 134 Cierva Point and offshore islands, Danco Coast, Antarctic Peninsula

ASPA 135 North-eastern Bailey Peninsula, Budd Coast, Wilkes Land

ASPA 136 Clark Peninsula, Budd Coast, Wilkes Land

ASPA 137 North-west White Island, McMurdo Sound

ASPA 138 Linnaeus Terrace, Asgard Range, Victoria Land

ASPA 139 Biscoe Point, Anvers Island, Palmer Archipelago

ASPA 140 Parts of Deception Island, South Shetland Islands

ASPA 141 Yukidori Valley, Langhovde, Lutzow-Holm Bay

ASPA 142 Svarthamaren

ASPA 143 Marine Plain, Mule Peninsula, Vestfold Hills, Princess Elizabeth Land

ASPA 144 Chile Bay (Discovery Bay), Greenwich Island, South Shetland Islands

ASPA 145 Port Foster, Deception Island, South Shetland Islands

ASPA 146 South Bay, Doumer Island, Palmer Archipelago

ASPA 147 Ablation Valley and Ganymede Heights, Alexander Island

ASPA 148 Mount Flora, Hope Bay, Antarctic Peninsula

ASPA 149 Cape Shirreff and San Talmo Island, Livingston Island, South Shetland Islands

ASPA 150 Ardley Island, Maxwell Bay, King George Island (25 de Mayo)

ASPA 151 Lions Rump, King George Island, South Shetland Islands

ASPA 152 Western Bransfield Strait

ASPA 153 Eastern Dallmann Bay

ASPA 154 Botany Bay, Cape Geology, Victoria Land

ASPA 155 Cape Evans, Ross Island

ASPA 156 Lewis Bay, Mount Erebus, Ross Island

ASPA 157 Backdoor Bay, Cape Royds, Ross Island

ASPA 158 Hut Point, Ross Island

ASPA 159 Cape Adare, Borchgrevink Coast

ASPA 160 Frazier Islands, Windmill Islands, Wilkes Land, East Antarctica

ASPA 161 Terra Nova Bay, Ross Sea

ASPA 162 Mawson's Huts, Cape Denison, Commonwealth Bay, George V Land, East Antarctica

ASPA 163 Dakshin Gangotri Glacier, Dronning Maud Land

ASPA 164 Scullin and Murray Monoliths, Mac. Robertson Land

ASPA 165 Edmonson Point, Wood Bay, Ross Sea

ASPA 166 Port-Martin, Terre Adelie

ASPA 167 Hawker Island, Vestfold Hills, Ingrid Christensen Coast, Princess Elizabeth Land, East Antarctica

ASPA 168 Mount Harding, Grove Mountains, East Antarctica

ASPA 169 Amanda Bay, Ingrid Christensen Coast, Princess Elizabeth Land, East Antarctica

ASPA 170 Marion Nunataks, Charcot Island, Antarctic Peninsula ASPA 171 Narebski Point, Barton Peninsula, King George Island

(b) The following areas have been designated by the Antarctic Treaty Parties for special management and have been designated as Antarctic Specially Managed Areas (ASMA). Detailed maps and descriptions of the sites and complete management plans can be obtained from the National Science Foundation, Office of Polar Programs, Room 755, 4201 Wilson Boulevard, Arlington, Virginia 22230.

ASMA 1 Admiralty Bay, King George Island

ASMA 2 McMurdo Dry Valleys, Southern Victoria Land

ASMA 3 Cape Denison, Commonwealth Bay, George V Land, East Antarctica

ASMA 4 Deception Island

ASMA 5 Amundsen-Scott South Pole Station, South Pole

ASMA 6 Larsemann Hills, East Antarctica

ASMA 7 Southwest Anvers Island and Palmer Basin

(c) The following areas have been designated by the Antarctic Treaty Parties as historic sites or monuments (HSM). The Antarctic Conservation Act of 1978, as amended, prohibits any damage, removal or destruction of a historic site or monument listed pursuant to Annex V to the Protocol.

Descriptions of the sites or monuments can be obtained from the National Science Foundation, Office of Polar Programs, Room 755, 4201 Wilson Boulevard, Arlington, Virginia 22230.

HSM 1 Flag mast erected in December 1965 at South Geographical Pole by the First Argentine Overland Polar Expedition.

HSM 2 Rock cairn and plaques erected in January 1961 at Syowa Station in memory of Shun Fukushima.

HSM 3 Rock cairn and plaque erected in January 1930 by Sir Douglas Mawson on Proclamation Island, Enderby Land.

HSM 4 Station building to which a bust of V.I. Lenin is fixed together with a plaque in memory of the conquest of the Pole of Inaccessibility, by Soviet Antarctic Explorers in 1958.

HSM 5 Rock cairn and plaque at Cape Bruce, Mac. Robertson Land, erected in February 1931 by Sir Douglas Mawson.

HSM 6 Rock cairn and canister at Walkabout Rocks, Vestfold Hills, Princess Elizabeth Land, erected in 1939 by Sir Hubert Wilkins.

HSM 7 Stone with inscribed plaque, erected at Mirny Observatory, Mabus Point, in memory of driver-mechanic Ivan Kharma.

HSM 8 Metal Monument sledge and plaque at Mirny Observatory, Mabus Point, in memory of driver-mechanic Anatoly Shcheglov.

HSM 9 Cemetery on Buromskiy Island, near Mirny Observatory.

HSM 10 Building (Magnetic Observatory) at Dobrowolsky Station, Bunger Hills, with plaque in memory of the opening of Oasis Station in 1956.

HSM 11 Heavy Tractor at Vostock Station with plaque in memory of the opening of the Station in 1957.

HSM 14 Site of ice cave at Inexpressible Island, Terra Nova Bay, constructed in March 1912 by Victor Campbell's Northern Party.

HSM 15 Hut at Cape Royds, Ross Island, built in February 1908 by the British Antarctic Expedition.

HSM 16 Hut at Cape Evans, Ross Island, built in January 1911 by the British Antarctic Expedition.

HSM 17 Cross on Wind Vane Hill, Cape Evans, Ross Island, erected by the Ross Sea Party in memory of three members of the party who died in the vicinity in 1916.

HSM 18 Hut at Hut Point, Ross Island, built in February 1902 by the British Antarctic Expedition.

HSM 19 Cross at Hut Point, Ross Island, erected in February 1904 by the British Antarctic Expedition in memory of George Vince.

HSM 20 Cross on Observation Hill, Ross Island, erected in January 1913 by the British Antarctic Expedition in memory of Captain Robert F Scott's party which perished on the return journey from the South Pole.

HSM 21 Remains of stone hut at Cape Crozier, Ross Island, constructed in July 1911 by the British Antarctic Expedition.

HSM 22 Three huts and associated relics at Cape Adare Two built in February 1899 the third was built in February 2011 all by the British Antarctic Expedition.

HSM 23 Grave at Cape Adare of Norwegian biologist Nicolai Hanson.

HSM 24 Rock cairn, known as “Amundsen's cairn,” at Mount Betty, Queen Maud Range erected by Roald Amundsen in January 1912.

HSM 26 Abandoned installations of Argentine Station “General San Martin” on Barry Island, Debenham Islands, Marguerite Bay, Antarctic Peninsula.

HSM 27 Cairn with a replica of a lead plaque erected at Megalestris Hill, Petermann Island in 1909 by the second French expedition.

HSM 28 Rock Cairn at Port Charcot, Booth Island, with wooden pillar and plaque.

HSM 29 Lighthouse named “Primero de Mayo” erected on Lambda Island, Melchior Islands, by Argentina in 1942.

HSM 30 Shelter at Paradise Harbour erected in 1950.

HSM 32 Concrete Monolith erected in 1947 near Capitan Arturo Prat Base on Greenwich Island, South Shetland Islands.

HSM 33 Shelter and cross with plaque near Capitan Arturo Prat Base Greenwich Island, South Shetland Islands.

HSM 34 Bust at Capitan Arturo Prat base Greenwich Island, South Shetland Islands, of Chilean naval hero Arturo Prat.

HSM 35 Wooden cross and statue of the Virgin of Carmen erected in 1947 near Capitan Arturo Prat base Greenwich Island, South Shetland Islands.

HSM 36 Replica of a metal plaque erected by Eduard Dallman at Potter Cove, King George Island, South Shetland Islands.

HSM 37 Statue erected in 1948 at General Bernando O'Higgins Base (Chile) Trinity Peninsula.

HSM 38 Wooden hut on Snow Hill Island built in February 1902 by the Swedish South Polar Expedition.

HSM 39 Stone hut at Hope Bay, Trinity Peninsula built in January 1903 by the Swedish South Polar Expedition.

HSM 40 Bust of General San Martin, grotto with statue of the Virgin Lujan, a flag mast and graveyard at Base Esperanza, Hope Bay Trinity Peninsula, erected by Argentina in 1955.

HSM 41 Stone hut and grave at Paulet Island built in 1903 by members of the Swedish South Polar Expedition.

HSM 42 Area of Scotia bay, Laurie Island, South Orkney containing stone huts built in 1903 by the Scottish Antarctic Expedition, Argentine meteorological hut and magnetic observatory (Moneta house) and graveyard.

HSM 43 Cross erected in 1955 and subsequently moved to Belgrano II Station, Nunatak Bertrab, Confin Coast, Coats Land in 1979.

HSM 44 Plaque erected at temporary Indian Station “Dakshin Gangotri,” Princess Astrid Kyst, Droning Maud Land, listing the names of the first Indian Antarctic Expedition.

HSM 45 Plaque on Brabant Island, on Metchnikoff Point, at a height of 70m on the crest of the moraine separating this point from the glacier and bearing an inscription.

HSM 46 All of the buildings and installations of Port-Martin Base, Terre Ad6lie, constructed in 1950 by the 3rd French expedition in Terre Ad6lie.

HSM 47 Wooden building called “Base Marret” on the Ile des Petrels, Terre Ad6lie.

HSM 48 Iron Cross on the North-East headland of the Ile des Petrels, Terre Ad6lie.

HSM 49 Concrete pillar erected by the First Polish Antarctic Expedition at Dobrowski Station on Bunger Hill in January 1959, to measure acceleration due to gravity.

HSM 50 Brass Plaque bearing the Polish Eagle at Fildes Peninsula, King George Island, South Shetland Islands.

HSM 51 Grave of Wlodzimierz Puchalski, surmounted by an iron cross south of Arctowski station on King George Island, South Shetland Islands.

HSM 52 Monolith commemorating the establishment on 20 February 1985 of the “Great Wall Station” on Fildes Peninsula, King George Island, South Shetland Islands.

HSM 53 Bust of Captain Luis Alberto Pardo, monolith and plaques on Point Wild, Elephant Island, South Shetland Islands.

HSM 54 Richard E. Byrd Historic Monument, a bronze bust at McMurdo Station.

HSM 55 East Base, Antarctica, Stonington Island (Buildings and artifacts) erected by the Antarctic Service Expedition (1939-1941) and the Ronne Antarctic Research Expedition (1947-1948).

HSM 56 Waterboat Point, Danco Coast, (remains of hut and environs).

HSM 57 Plaque at “Yankee Bay” (Yankee Harbour), MacFarlane Strait, Greenwich Island, South Shetland Islands.

HSM 59 Cairn on Half Moon Beach, Cape Shirreff, Livingston Island, South Shetland Islands and a Plaque on `Cerro Gaviota' opposite San Telmo Islets.

HSM 60 Wooden plaque and cairn placed in November 1903 at “Penguins Bay,” Seymour Island (Marambio), James Ross Archipelago.

HSM 61 “Base A” at Port Lockroy, Goudier Island, off Wiencke Island.

HSM 62 “Base F” (Wordie House), on Winter Island, Argentine Islands.

HSM 63 “Base Y” on Horseshoe Island, Marguerite Bay, western Graham Land.

HSM 64 “Base E” on Stonington Island, Marguerite Bay, western Graham Land.

HSM 65 Message post erected in January 1895 on Svend Foyn Island, Possession Islands.

HSM 66 Prestrud's cairn, Scott Nunataks, Alexandra Mountains, Edward VII Peninsula erected in December 1911.

HSM 67 Rock shelter known as “Granite House,” erected in 1911 at Cape Geology, Granite Harbour.

HSM 68 Site of depot at Hells Gate Moraine, Inexpressible Island, Terra Nova Bay.

HSM 69 Message post at Cape Crozier, Ross Island, erected January 1902 by Capt. Robert F. Scott's Discovery Expedition.

HSM 70 Message post at Cape Wadworth, Coulman Island, erected January 1902 by Capt. Robert F. Scott.

HSM 71 Whalers Bay, Deception Island, South Shetland Islands (includes whaling artifacts).

HSM 72 Mikkelsen Cairn, Tryne Islands, Vestfold Hills.

HSM 73 Memorial Cross for the 1979 Mount Erebus crash victims, erected in January 1987 at Lewis Bay, Ross Island.

HSM 74 Unnamed cove on the south-west coast of Elephant Island, South Shetland Islands, including the foreshore and intertidal area, in which the wreckage of a large wooden sailing vessel is located.

HSM 75 “A Hut” of Scott base, Pram Point, Ross Island.

HSM 76 Ruins of base Pedro Aguirre Cerda, Pendulum Cove, Deception Island, South Shetland Islands.

HSM 77 Cape Denison, Commonwealth Bay, George V Land, including Boat Harbour and the historic artifacts contained within its waters.

HSM 78 Memorial Plaque at India Point, Humboldt Mountains, Wohlthat Massif, central Dronning Maud Land.

HSM 79 Lillie Marleen Hut, Mt. Dockery, Everett Range, Northern Victoria Land.

HSM 80 Amundsen's Tent erected in December 1911 at the South Pole.

HSM 81 Rocher du Debarquement (Landing Rock).

HSM 82 Monument to the Antarctic Treaty and Plaques, Fildes Peninsula, King George Island, South Shetland Islands.

HSM 83 Base “W” established in 1956 at Detaille Island, Lallemande Fjord, Loubert Coast.

HSM 84 Hut erected in 1973 at Damoy Point, Dorian Bay, Wiencke Island, Palmer Archipelago.

HSM 85 Plaque Commemorating the PM-3A Nuclear Power Plant at McMurdo Station.

HSM 86 No.1 Building Commemorating China's Antarctic Expedition at Great Wall/Station.

[FR Doc. 2012-1392 Filed 2-2-12; 8:45 am]

BILLING CODE 7555-01-P